DEPARTMENT OF COMMERCE

International Trade Administration

[A-588-804]

Antifriction Bearings (Other Than Tapered Roller Bearings) and Parts thereof from Japan; Amended Final Results of Antidumping Duty Administrative Reviews Pursuant to Final Court Decision

AGENCY: Import Administration, International Trade Administration, Department of Commerce.

SUMMARY: On April 8, 2005, in response to appeals in NTN Corporation, NTN Bearing Corporation of America, American NTN Bearing Manufacturing Corporation, NTN Driveshaft, Inc., NTN Bower Corporation, and NTN-BCA Corporation v. United States and Timken U.S. Corporation (NTN v. United States), 125 Fed. Appx. 1011 (CAFC April 8, 2005), the United States Court of Appeals for the Federal Circuit (CAFC) affirmed the Court of International Trade's (CIT's) decision of the Department of Commerce's (the Department's) final remand determination, Court No. 00-09-00443, Slip. Op. 04-64 (CIT June 9, 2004). This remand determination affects final assessment rates for the administrative reviews of the antidumping duty orders on antifriction bearings (other than tapered roller bearings) and parts thereof from Japan for the period of review May 1, 1998, through April 30, 1999. The merchandise covered by these reviews is ball bearings and parts thereof (BBs), cylindrical roller bearings and parts thereof (CRBs), and spherical plain bearings and parts thereof (SPBs). Because there is now a final and conclusive court decision, we are amending our final results of reviews and we will instruct U.S. Customs and Border Protection to liquidate entries subject to these reviews.

EFFECTIVE DATE: July 18, 2005.

FOR FURTHER INFORMATION CONTACT: John Holman or Richard Rimlinger, AD/CVD Operations, Office 5, Import Administration, U.S. Department of Commerce, 14th Street and Constitution Avenue, NW., Washington, DC 20230; telephone: (202) 482-3683 or (202) 482-4477, respectively.

SUPPLEMENTARY INFORMATION:

Background

On August 11, 2000, the Department published Antifriction Bearings (Other Than Tapered Roller Bearings) and Parts Thereof from France, Germany, Italy, Japan, Romania, Singapore, Sweden, and the United Kingdom: Final Results of Antidumping Duty Administrative Reviews and Revocation of Orders in Part, 65 FR 49219 (August 11, 2000), (collectively AFBs 10), which covered the period of review (POR) May 1, 1998, through April 30, 1999. The classes or kinds of merchandise covered by these reviews are BBs, CRBs, and SPBs.

NTN Bearing Corporation of America, NTN Corporation, American NTN Bearing Manufacturing Corporation, NTN Driveshaft, Inc., and NTN-Bower Corporation (collectively NTN), and Timken U.S. Corporation (Timken) appealed the Department's decisions in AFBs 10. On February 3, 2004, the CIT issued its ruling in NTN v. United States, 306 F. Supp. 2d 1319, (CIT February 3, 2004), remanding to the Department the final results in AFBs 10 as follows: (1) to apply the arm's-length test to the sales prices of certain affiliated resellers to determine whether the sales prices were comparable to the price at which NTN sold the subject merchandise to unaffiliated parties; (2) to explain how the record supports the Department's decision to recalculate NTN's home-market indirect selling expenses without regard to level of trade; (3) to clarify the reasoning for the Department's treatment of affiliated-party inputs, apply the major-input rule to NTN where appropriate, and open the record for additional information, if necessary. The remand affected NTN with respect to the administrative reviews of the antidumping duty orders on BBs, CRBs and SPBs from Japan for the period May 1, 1998, through April 30, 1999.

On April 28, 2004, the Department filed its final results of redetermination with the CIT. See Final Remand Determination in NTN Corp., et al, v. United States, (April 28, 2004) (Remand Results). In its redetermination, the Department conducted the arm's-length test for two of NTN's affiliated resellers and recalculated the antidumping duty margin applicable to NTN Corporation to account for the results of that test. As a result of the Department's redetermination and calculation changes, NTN's weighted-average margins for the POR changed to 4.71 percent for BBs, 3.50 percent for CRBS, and remained 2.78 percent for SPBs. On June 9, 2004, the CIT affirmed the Department's Remand Results in their entirety. See NTN v. United States, Court No. 00-09-00443, Slip. Op. 04-64 (CIT June 9, 2004).

NTN and Timken appealed the CIT's remand affirmation to the CAFC. On April 8, 2005, the CAFC affirmed the CIT's June 9, 2004, decision in NTN v. United States, 125 Fed. Appx. 1011 (CAFC April 8, 2005).

There is now a final and conclusive court decision with respect to the company affected by this litigation (NTN). Pursuant to section 516A(e) of the Tariff Act of 1930, as amended, we are amending our final results of review for this company and we will instruct U.S. Customs and Border Protection (CBP) to liquidate the relevant entries subject to these reviews in accordance with our remand results.

Assessment of Duties

We hereby amend the final results of the 1998-1999 administrative reviews of the antidumping duty orders on BBs, CRBs, and SPBs from Japan to reflect revised weighted-average margins for NTN. We determine that NTN's revised weighted-average margins are 4.71 percent for BBs, 3.50 percent for CRBs, and 2.78 percent for SPBs from Japan for the period May 1, 1998, through April 30, 1999.

Accordingly, the Department will determine and CBP will assess appropriate antidumping duties on entries of the subject merchandise produced or exported by the reviewed company. Individual differences between U.S. price and normal value may vary from the above percentages. The Department will issue assessment instructions to CBP within 15 days of publication of this notice.

We are issuing and publishing this notice in accordance with sections 751(a)(1) and 777(i)(1) of the Tariff Act of 1930, as amended.

Dated: July 12, 2005.
Joseph A. Spetrini,
Acting Assistant Secretary for Import Administration.

[FR Doc. E5-3803 Filed 7-15-E5; 8:45 am]

(BILLING CODE: 3510-DS-S)